DEPARTMENT OF THE INTERIOR

Fish and Wildlife Service

[FWS-R2-ES-2010-N012; 20124-1113-0000-F5]

Endangered and Threatened Species Permit Applications

AGENCY: Fish and Wildlife Service, Interior.

ACTION: Notice of receipt of applications; request for public comment.

SUMMARY: The following applicants have applied for scientific research permits to conduct certain activities with endangered species under the Endangered Species Act of 1973, as amended (Act). The Act requires that we invite public comment on these permit applications.

DATES: To ensure consideration, written comments must be received on or before March 14, 2011.

ADDRESSES: Written comments should be submitted to the Chief, Endangered Species Division, Ecological Services, P.O. Box 1306, Room 6034, Albuquerque, NM 87103. Documents and other information submitted with these applications are available for review, subject to the requirements of the Privacy Act and Freedom of Information Act. Documents will be available for public inspection, by appointment only, during normal business hours at the U.S. Fish and Wildlife Service, 500 Gold Ave. SW., Room 6034, Albuquerque, NM. Please refer to the respective permit number for each application when submitting comments.

FOR FURTHER INFORMATION CONTACT: Susan Jacobsen, Chief, Endangered Species Division, P.O. Box 1306, Albuquerque, NM 87103; (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-28576A

Applicant: University of New Mexico, Albuquerque, New Mexico.

Applicant requests a new permit for research and recovery purposes to conduct presence/absence surveys for Pecos gambusia (Gambusia nobilis) within New Mexico and Texas.

Permit TE-28891A

Applicant: Timothy Tristan, Corpus Christi, Texas.

Applicant requests a new permit to receive, rehabilitate, and release green sea turtles (Chelonia mydas), hawksbill sea turtles (Eretmochelys imbricate), Kemps ridley sea turtles (Lepidochelys kempii), and leatherback sea turtles (Dermochelys coriacea) that are found sick, injured, or cold-stunned on land in Texas and the adjacent Texas bays, estuaries, and Gulf of Mexico.

Permit TE-064431

Applicant: Aztec Engineering Group, Inc., Phoenix, Arizona.

Applicant requests an amendment to a current permit for research and recovery purposes to conduct presence/absence surveys of black-footed ferret (Mustela nigripes) and Yuma clapper rail (Rallus longirostris yumanensis) within Arizona.

Permit TE-048579

Applicant: Kathlene Meadows, Tucson, Arizona.

Applicant requests a new permit for research and recovery purposes to conduct presence/absence surveys for Pima pineapple cactus (Coryphantha scheeri var. robustispina) within Arizona.

Permit TE-219536

Applicant: Texas Tech University, Lubbock, Texas.

Applicant requests an amendment to a current permit for research and recovery purposes to collect and transport Roswell springsnail (Pyrgulopsis roswellensis) and Koster's springsnail (Juturnia kosteri) from Bitter Lakes National Wildlife Refuge in New Mexico to Texas Tech University.

Permit TE-826091

Applicant: Bureau of Land Management, Phoenix, Arizona.

Applicant requests an amendment to a current permit for research and recovery purposes to conduct presence/absence surveys for Yuma clapper rail (Ralus longirostrus yumanensis), lesser long-nosed bat (Leptonycteris yerbabuenae curasoae), and Sonoran pronghorn (Antilocarpa americana sonoriensis) within Arizona.

Permit TE-022190

Applicant: Arizona—Sonora Desert Museum, Tucson, Arizona.

Applicant requests an amendment to a current permit for research and recovery purposes to hold in captivity, perform husbandry duties, and create educational displays for the following species: woundfin (Plagopterus agentissimus), Yaqui chub (Gila purpea), and Yaqui topminnow (Poeciliopsis occidentalis sonoriensis) at the museum.

Permit TE-31412A

Applicant: John Kuba, Buffalo Gap, Texas.

Applicant requests a new permit for research and recovery purposes to conduct presence/absence surveys for golden-cheeked warbler (Dendroica chrysoparia), black-capped vireo (Vireo atricapilla), and interior least tern (Sterna antillarum anthalassos) within Texas.

Permit TE-841353

Applicant: Loomis Partners, Austin, Texas.

Applicant requests an amendment to a current permit for research and recovery purposes to conduct presence/absence surveys for the following species: Texas blind salamander (Typhlomolge rathbuni), Barton Springs salamander (Eurycea sosorum), Mexican long-nosed bat (Leptonycteris nivalis), American burying beetle (Nicrophorus americanus), Comal Spring riffle beetle (Stygoparnus comalensis), Comal Springs dryopid beetle (Heterelmis comalensis), whooping crane (Grus americana), Attwater's greater prairie-chicken (Tympanuchus cupido attwateri), and fountain darter (Etheostoma fonticola) within Texas.

Permit TE-814933

Applicant: Texas Parks and Wildlife Department, Austin, Texas.

Applicant requests a new permit for research and recovery purposes to conduct presence/absence surveys for the following species within Texas:

(Unnamed) ground beetle (Rhadine infernalis)

(Unnamed) ground beetle (Rhadine exilis)

American burying beetle (Nicrophorus americanus)

Ashy dogweed (Thymophylla tephroleuca)

Attwater's greater prairie-chicken (Tympanuchus cupido attwateri)

Barton Springs salamander (Eurycea sosorum)

Bee Creek Cave harvestman (Texella reddelli)

Big Bend gambusia (Gambusia gaigei)

Black-footed ferret (Mustela nigripes)

Black lace cactus (Echinocereus reichenbachii var. albertii)

Black-capped vireo (Vireo atricapilla)

Bone Cave harvestman (Texella reyesi)

Braken Bat Cave meshweaver (Circurina venii)

Clear Creek gambusia (Gambusia heterochir)

Coffin Cave mold beetle (Batrisodes texanus)

Cokendolpher Cave harvestman (Texella cokendolpheri)

Comal Springs dryopid beetle (Stygoparnus comalensis)

Comal Springs riffle beetle (Heterelmis comalensis)

Comanche Springs pupfish (Cyprinodon elegans)

Davis' green pitaya (Echinocereus viridiflorus var. davisii)

Eskimo curlew (Numenius borealis)

Fountain darter (Etheostoma fonticola)

Golden-cheeked warbler (Dendroica chrysoparia)

Government Canyon Bat Cave meshweaver (Cicurina vespera)

Government Canyon Bat Cave spider (Neoleptoneta microps)

Gulf Coast jaguarondi (Herpailurus yagouaroundi cacomitli)

Helotes mold beetle (Batrisodes venyivi)

Houston toad (Bufo houstonensis)

Johnston's frankenia (Frankenia johnstonii)

Kemp's ridley sea turtle (Lepidochelys kempii)

Kretschmarr Cave mold beetle (Texamaurops reddelli)

Large-fruit sand-verbana (Abronia macrocarpa)

Least tern (Sterna antillarum)

Leatherback sea turtle (Dermchelys coriacea)

Leon Springs pupfish (Cyprinodon bovines)

Little Aguja pondweed (Potamogeton clystocarpus)

Madla's Cave meshweaver (Cicurina madla)

Mexican long-nosed bat (Leptonycteris nivalis)

Navasota ladies'-tresses (Spiranthes parksii)

Nellie cory cactus (Coryphantha minima)

Northern aplomado falcon (Falco femeralis spetentrionalis)

Ocelot (Leopardus pardalis)

Peck's Cave amphipod (Sygobromus pecki)

Pecos assiminiea snail (Assiminea pecos)

Pecos gambusia (Gambusia nobilis)

Red-cockaded woodpecker (Picoides borealis)

Rio Grande silvery minnow (Hybognathus amarus)

Robber Baron Cave meshweaver (Cicurina baronia)

San Marcos gambusia (Gambusia georgei)

Slender rush-pea (Hoffmannseggia tenella)

Sneed's pincushion cactus (Coryphantha sneedii var. sneedii)

South Texas ambrosia (Ambrosia cheiranthifolia)

Southwestern willow flycatcher (Empidonax traillii extimus)

Star cactus (Astrophytum asterias)

Terlingua Creek cat's-eye (Cryptantha crassipes)

Texas ayenia (Ayenia limitaris)

Texas blind salamander (Typholmolge rathbuni)

Texas poppy-mallow (Callirhoe scabriuscula)

Texas prairie dawn-flower (Hymenoxys texana)

Texas snowbells (Styrax texanus)

Texas trailing phlox (Phlox nivalis spp. texensis)

Texas wild-rice (Zizania texana)

Tobusch fishhook cactus (Ancistrocactus tobushii)

Tooth cave ground beetle (Rhadine persephone)

Tooth Cave pseudoscorpion (Tartarocreagris texana)

Tooth Cave spider (Leptoneta myopica)

Walker's manioc (Manihot walkerae)

White bladderpod (Lesquerella pallid)

Whooping crane (Grus americana)

Zapata bladderpod (Lesquerella thamnophila)

Permit TE-150338

Applicant: Crouch Environmental, Houston, Texas.

Applicant requests an amendment to a current permit for research and recovery purposes to conduct presence/absence surveys for the following species: Houston toad (Bufo houstonensis), golden-cheeked warbler (Dendroica chrysoparia), southwestern willow flycatcher (Empidonax traillii extimus), Yuma clapper rail (Rallus longirostris yumanensis), hawksbill sea turtle (Eretmochelys imbricate), Kemp's ridley sea turtle (Lepidochelys kempii), and Johnson's seagrass (Halophila johnsonii) within Florida, Mississippi, Alabama, Louisiana, Arkansas, Texas, and Oklahoma.

Authority: 16 U.S.C. 1531 et seq.

Dated: February 1, 2011.
Joy E. Nicholopoulos,
Regional Director, Southwest Region, Fish and Wildlife Service.

[FR Doc. 2011-3021 Filed 2-9-11; 8:45 am]

BILLING CODE 4310-55-P